DEPARTMENT OF COMMERCE

International Trade Administration

[A-533-810]

Stainless Steel Bar From India: Final Results of Antidumping Duty Administrative Review; 2018-2019

AGENCY: Enforcement and Compliance, International Trade Administration, Department of Commerce.

SUMMARY: The Department of Commerce (Commerce) determines that certain producers/exporters subject to this review made sales of stainless steel bar (SS Bar) from India at less than fair value (LTFV) during the period of review (POR) February 1, 2018 through January 31, 2019. Commerce determines that mandatory respondent Venus Wire Industries Pvt. Ltd., and its affiliates Hindustan Inox, Precision Metals and Sieves Manufacturers (India) Pvt. Ltd. (collectively, the Venus Group), made sales at LTFV, while mandatory respondent Ambica Steels Limited (Ambica) did not make sales at LTFV.

DATES: Applicable November 24, 2020.

FOR FURTHER INFORMATION CONTACT: Hermes Pinilla or Allison Hollander, AD/CVD Operations, Office I, Enforcement and Compliance, International Trade Administration, U.S. Department of Commerce, 1401 Constitution Avenue NW, Washington DC 20230; telephone: (202) 482-3477 or (202) 482-2805, respectively.

SUPPLEMENTARY INFORMATION:

Background

On March 3, 2020, Commerce published the preliminary results of this administrative review.¹ This review covers two producers/exporters of the subject merchandise: Venus Group ² and Ambica. We invited parties to comment on the Preliminary Results.

¹ See Stainless Steel Bar from India: Preliminary Results of Antidumping Duty Administrative Review; and Rescission of Review in Part; 2018-2019, 85 FR 12520 (March 3, 2020) (Preliminary Results).

² Commerce has previously determined that Venus Wire Industries Pvt. Ltd., and its affiliates Hindustan Inox, Precision Metals and Sieves Manufacturers (India) Pvt. Ltd. constitute a single entity. See Stainless Steel Bar from India: Preliminary Results of Changed Circumstances Review and Intent to Reinstate Certain Companies in the Antidumping Duty Order, 82 FR 48483 (October 18, 2017), and accompanying Preliminary Decision Memorandum at 3-5, unchanged in Final Results of Changed Circumstances Review and Reinstatement of Certain Companies in the Antidumping Duty Order, 83 FR 17529 (April 20, 2018). We have received no information on the record of this review to dispute that finding.

On April 2, 2020, the petitioners submitted a request for a hearing.³ On June 16, 2020, we received case briefs from the Venus Group,⁴ and Carpenter Technology Corporation, Crucible Industries LLC, Electralloy, a Division of G.O. Carlson, Inc., North American Stainless, Universal Stainless & Alloy Products, Inc., and Valbruna Slater Stainless, Inc. (collectively, the petitioners).⁵ On June 30, 2020, we received rebuttal briefs from the petitioners, and from the Venus Group.⁶ On August 13, 2020, the petitioners withdrew their request for a hearing.⁷ On September 21, 2020, we extended the deadline for the final results.⁸

³ See the petitioners' Letter “Stainless Steel Bar from India—Petitioners' Request for a Hearing,” dated April 2, 2020.

⁴ Commerce rejected the Venus Group's June 16, 2020, case brief because it contained untimely filed new factual information. See Commerce's Letter, “Rejection of Untimely New Factual Information,” dated June 24, 2020. On June 26, 2020, the Venus Group refiled its case brief. See Venus Group's Letter, “Antidumping Duty Investigation of Stainless Steel Bar from India: Re-Submission of Venus Group Case Brief,” dated June 26, 2020.

⁵ See Petitioners' Letter, “Petitioners' Case Brief Regarding the Venus Group,” dated June 16, 2020 (Petitioners' Case Brief).

⁶ See Petitioner's Letter, “Petitioners' Rebuttal Brief Regarding Venus,” dated June 30, 2020 (Petitioners' Venus Rebuttal Brief)

⁷ See Petitioners' Letter, “Stainless Steel Bar from India—Withdrawal of Hearing Request,” dated August 13, 2020.

⁸ See Memorandum, “Stainless Steel Bar from India: Extension of Time Limit for the Final Results of the Antidumping Duty Administrative Review; 2018-2019,” dated September 21, 2020.

Commerce conducted this administrative review in accordance with section 751(a)(1)(B) and (2) of the Tariff Act of 1930, as amended (the Act).

Scope of the Order

The merchandise subject to the order is SS bar. SS bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. For a complete description of the scope of the Order, see the Issues and Decision Memorandum.⁹

⁹ See Memorandum, “Issues and Decision Memorandum for the Final Results of the Administrative Review of the Antidumping Duty Stainless Steel Bar from India,” dated concurrently with, and hereby adopted by, this notice (Issues and Decision Memorandum).

Analysis of Comments Received

The issues raised by interested parties in their case and rebuttal briefs have been addressed in the Issues and Decision Memorandum. The Issues and Decision Memorandum is a public document and is made available to the public via Enforcement and Compliance's Antidumping and Countervailing Duty Centralized Electronic Service System (ACCESS). ACCESS is available to registered users at http://access.trade.gov. In addition, a complete version of the Issues and Decision Memorandum can be accessed directly on the Enforcement and Compliance website at http://enforcement.trade.gov/frn/. A list of the topics discussed in the Issues and Decision Memorandum is attached as an Appendix to this notice.

Changes Since the Preliminary Results

Based on our analysis of the comments received, we made certain changes to the margin calculation with regard to the Venus Group. For a discussion of these changes, see the Issues and Decision Memorandum.¹⁰

¹⁰ See also the Venus Group final calculation memorandum dated concurrently with this notice.

Final Results of Review

Commerce determines that the following weighted-average dumping margins exist for the period February 1, 2018, through January 31, 2019:

Producer/exporter | Weighted- average dumping margin (percent)
Venus Wire Industries Pvt. Ltd., and its affiliates Hindustan Inox, Precision Metals and Sieves Manufacturers (India) Pvt. Ltd | 17.24
Ambica Steels Limited | 0.00

Disclosure

With respect to the Venus Group, we intend to disclose the calculations performed for these final results to the parties within five days after public announcement of the final results in accordance with 19 CFR 351.224(b).

Assessment Rates

Upon publication of the final results in this administrative review, Commerce shall determine and CBP shall assess antidumping duties on all appropriate entries covered by this POR. We will instruct CBP to apply the ad valorem assessment rates listed above to all entries of subject merchandise during the POR which were exported by the companies named above.

For entries of subject merchandise during the POR produced by the Venus Group and Ambica for which it did not know its merchandise was destined for the United States, we will instruct CBP to liquidate unreviewed entries at the all-others rate if there is no rate for the intermediate company(ies) involved in the transaction.

We intend to issue liquidation instructions to CBP 15 days after publication of these final results of this review.

Cash Deposit Requirements

The following deposit requirements will be effective upon publication of these final results of this review for all shipments of SS Bar from India entered, or withdrawn from warehouse, for consumption on or after the date of publication as provided by section 751(a)(2) of the Act: (1) The cash deposit rate for companies subject to this review will be the rates established in the final results of the review; (2) for merchandise exported by producers or exporters not covered in this review but covered in a prior segment of the proceeding, the cash deposit rate will continue to be the company-specific rate published for the most recent period; (3) if the exporter is not a firm covered in this review, a prior review, or the original investigation but the producer is, the cash deposit rate will be the rate established for the most recent period for the producer of the merchandise; (4) the cash deposit rate for all other producers or exporters will continue to be 12.45 percent, the all-others rate established in the less-than-fair-value investigation.¹¹ These cash deposit requirements, when imposed, shall remain in effect until further notice.

¹¹ See Notice of Final Determination of Sales at Less Than Fair Value: Stainless Steel Bar from India, 59 FR 66915, 66921 (December 28, 1994).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

Notification to Interested Parties

Commerce is issuing and publishing these results of review in accordance with sections 751(a)(1) and 777(i) of the Act and 19 CFR 351.221(b)(5).

Dated: November 18, 2020.
Jeffrey I. Kessler,
Assistant Secretary for Enforcement and Compliance.

Appendix—List of Topics Discussed in the Issues and Decision Memorandum

I. Summary

II. Background

III. Scope of the Order

IV. Changes Since the Preliminary Results

V. Application of Facts Available and Adverse Inferences

VI. Discussion of the Issues

1. Whether the Venus Group is the Producer of Subject Merchandise

2. Whether Partial Adverse Facts Available (AFA) is Warranted for the Venus Group

3. Whether Commerce Erroneously Calculated the AFA Adjustment it Intended to Make in Calculating the Venus Group's Dumping Margin

4. Whether Commerce Should Apply Total AFA to the Venus Group

5. Whether Commerce Should Match Sales by Manufacturer

VII. Recommendation

[FR Doc. 2020-25942 Filed 11-23-20; 8:45 am]

BILLING CODE 3510-DS-P